DEPARTMENT OF COMMERCE

National Oceanic and Atmospheric Administration

[RTID 0648-XE783]

Fisheries of the Gulf of America; Southeast Data, Assessment, and Review (SEDAR); Public Meeting; Cancellation

AGENCY: National Marine Fisheries Service (NMFS), National Oceanic and Atmospheric Administration (NOAA), Commerce.

ACTION: Notice of cancellation; SEDAR 98 Assessment Webinar I for Gulf of America Red Snapper.

SUMMARY: The SEDAR 98 assessment process for Gulf of America red snapper will consist of a Data Workshop, a series of assessment webinars, and a Review Workshop. See SUPPLEMENTARY INFORMATION.

DATES: The SEDAR 98 Assessment Webinar I was to be held April 15, 2025, from 10 a.m. until 1 p.m., Eastern Time.

ADDRESSES:

Meeting address: The meeting will be held via webinar. The webinar is open to members of the public. Those interested in participating should contact Julie A. Neer at SEDAR (See Contact Information Below) to request an invitation providing webinar access information. Please request webinar invitations at least 24 hours in advance of each webinar.

SEDAR address: 4055 Faber Place Drive, Suite 201, North Charleston, SC 29405.

FOR FURTHER INFORMATION CONTACT: Julie A. Neer, SEDAR Coordinator; (843) 571-4366; email: Julie.neer@safmc.net.

SUPPLEMENTARY INFORMATION: The meeting notice published on March 26, 2025 (90 FR 13734). This announces that the meeting is cancelled and will be rescheduled at a later date.

On January 20, 2025, President Trump issued Executive Order 14172 to rename the Gulf of Mexico as the Gulf of America. Any reference to Gulf of America red snapper in SEDAR reports and other documents refers to the same species of red snapper listed in 50 CFR part 622, Appendix A, Table I (Gulf of Mexico Reef Fish).

Authority: 16 U.S.C. 1801 et seq.

Dated: April 4, 2025.
Rey Israel Marquez,
Acting Deputy Director, Office of Sustainable Fisheries, National Marine Fisheries Service.

[FR Doc. 2025-06072 Filed 4-8-25; 8:45 am]

BILLING CODE 3510-22-P